DEPARTMENT OF STATE

22 CFR Part 121

[Public Notice 6187]

RIN 1400-AC47

Amendment to the International Traffic in Arms Regulations: The United States Munitions List

Correction

§121.1 [Corrected]

In proposed rule document 08-1122 beginning on page 19778 in the issue of Friday, April 11, 2008, make the following correction:

On page 19780, in the first column, in §121.1(b), in the first line, “(b)” should read “*(b)”.

[FR Doc. C8-1122 Filed 5-16-08; 8:45 am]

BILLING CODE 1505-01-D

DEPARTMENT OF HOUSING AND URBAN DEVELOPMENT

[Docket No. FR-5213-N-01]

Section 8 Housing Choice Vouchers: Implementation of the HUD-VA Supportive Housing Program

Correction

In notice document 08-1220 beginning on page 25026 in the issue of Tuesday, May 6, 2008 make the following corrections:

1. On page 25028, in the first column, under heading (1), in the second paragraph, in the second line, “the HUD-50058” should read “the form HUD-50058”.

2. On the same page, in the same column, under the same heading, in the same paragraph, in the 12th through 14th lines, “must be 0 since the family must be absorbed, and 12f must be left blank.” should read “must have an amount recorded, and 12f must include the initial PHA's code.”.

3. On the same page, in the same column, under the same heading, in the same paragraph, immediately following the 14th line, the following text was omitted:

“(2) Portability Moves Where Case Management is Provided by the Receiving PHA's Partnering VAMC.

If a family wants to move to another jurisdiction where it will not be possible for the initial PHA's partnering VAMC to provide case management services, the VAMC must first determine that the HUD-VASH family could be served by another VAMC that is participating in this program, and the receiving PHA must have a HUD-VASH voucher available for this family. In these cases, the families must be absorbed by the receiving PHA either as a new admission (upon initial participation in the HUD-VASH program) or as a portability move-in (after an initial leasing in the initial PHA's jurisdiction). Upon absorption, the initial PHA's HUD-VASH voucher will be available to lease to a new HUD-VASH eligible family, as determined by the partnering VAMC, and the absorbed family will count toward the number of HUD-VASH slots awarded to the receiving PHA.

When the receiving PHA completes the HUD-50058 under the scenarios above, the action type that must be recorded on line 2a is “1” for a new admission (a family that is new to the HCV program) or “4” for a portability move-in (a family that was previously leased up in the jurisdiction of the initial PHA). Whether the family is a new admission or portability move-in, in section 12 of the HUD-50058, line 12d is marked “Y,” 12e must be 0 since the family must be absorbed, and 12f must be left blank.”

[FR Doc. C8-1220 Filed 5-16-08; 8:45 am]

BILLING CODE 1505-01-D

DEPARTMENT OF THE INTERIOR

Bureau of Land Management

[Docket No. WY-920-1050-ET; WYW 87233]

Public Land Order No. 7678; Extension of Public Land Order No. 6650; Wyoming

Correction

In notice document 07-3135 appearing on page 35063 in the issue of Tuesday, June 26, 2007 make the following correction:

In the second column, under the Order heading, in the third paragraph, in the second line, “June 22, 2007” should read “June 22, 2027”.

[FR Doc. C7-3135 Filed 5-16-08; 8:45 am]

BILLING CODE 1505-01-D